DEPARTMENT OF DEFENSE

Office of the Secretary

[Transmittal No. 17-37]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(1) arms sales notification is published to fulfill the requirements of section 155 of Public Law 104-164 dated July 21, 1996. The following is a copy of a letter to the Speaker of the House of Representatives, Transmittal 17-37 with attached Policy Justification.

Dated: July 25, 2018.
Shelly E. Finke,
Alternate OSD Federal Register Liaison Officer, Department of Defense.

BILLING CODE 5001-60-P

BILLING CODE 5001-60-C

Transmittal No. 17-37

Notice of Proposed Issuance of Letter of Offer Pursuant to Section 36(b)(1) of the Arms Export Control Act, as amended

(i) Prospective Purchaser: Government of Bahrain

(ii) Total Estimated Value:

Major Defense Equipment * | $38 million
Other | $ 7 million
TOTAL | $45 million

(iii) Description and Quantity or Quantities of Articles or Services under Consideration for Purchase:

Major Defense Equipment (MDE):

One thousand five hundred (1,500) MK-82 (500lbs) General Purpose (GP) Bomb Bodies

Six hundred (600) MK-83 (1,000lbs) GP Bomb Bodies

Six hundred (600) MK-84 (2,000lbs) GP Bomb Bodies

Five hundred (500) BLU-109 (2,000lbs) Penetrator Warhead Bomb Bodies

Non-MDE includes: Also included are spares, and repair parts, support equipment, personnel training and training equipment, shipping and logistics services, publications and technical documentation, U.S. Government and contractor technical support services, containers, munitions components, test equipment, and other related elements of logistics and program support.

(iv) Military Department: Air Force (X7-D-AAN)

(v) Prior Related Cases, if any: None

(vi) Sales Commission, Fee, etc., Paid, Offered, or Agreed to be Paid: None

(vii) Sensitivity of Technology Contained in the Defense Article or Defense Services Proposed to be Sold: None

(viii) Date Report Delivered to Congress: May 17, 2018

* As defined in Section 47(6) of the Arms Export Control Act.

POLICY JUSTIFICATION

Government of Bahrain—Munitions

The Government of Bahrain has requested three thousand two hundred (3,200) General Purpose (GP) and Penetrator Warhead bomb bodies to include: one thousand five hundred (1,500) MK-82 (500lbs) GP bomb bodies, six hundred (600) MK-83 (1,000lbs) GP bomb bodies, six hundred (600) MK-84 (2,000lbs) GP bomb bodies, and five hundred (500) BLU-109 (2,000lbs) Penetrator Warhead bomb bodies. Also included are spares and repair parts, support equipment, personnel training and training equipment, shipping and logistics services, publications and technical documentation, U.S. Government and contractor technical support services, containers, munitions components, test equipment, and other related elements of logistics and program support. The estimated total cost is $45 million.

This proposed sale will enhance the foreign policy and national security objectives of the United States by helping to improve the security of a major non-NATO ally which is an important security partner in the region. The purchase of these munitions will bolster the Royal Bahraini Air Force's ability to conduct and sustain air operations with its F-16 combat aircraft. Our mutual defense interests anchor our relationship and the Royal Bahraini Air Force plays a significant role in Bahrain's defense.

The proposed sale will improve Bahrain's capability to meet current and future security threats. Bahrain will use these munitions as a deterrent to regional threats, strengthen its homeland defense, and execute counter-terrorism operations. The GP bomb bodies would also better equip Bahrain to operate with U.S.-led and U.S.-supported coalition operations. Bahrain will have no difficulty absorbing these munitions into its armed forces.

The proposed sale of this equipment and support will not alter the basic military balance in the region.

There is no prime contractor planned for this effort; the munitions will be provided by the U.S. Government out of stock. There are no offset agreements proposed in connection with this potential sale.

Implementation of this proposed sale will not require the assignment of any additional U.S. or contractor representatives to Bahrain.

There will be no adverse impact on U.S. defense readiness as a result of this proposed sale.

[FR Doc. 2018-16304 Filed 7-30-18; 8:45 am]

BILLING CODE 5001-06-P